NUCLEAR REGULATORY COMMISSION

Status of the Office of Nuclear Reactor Regulation's Electronic Distribution Initiative

The Office of Nuclear Reactor Regulation (NRR) staff at the U.S. Nuclear Regulatory Commission (NRC) is implementing an electronic distribution initiative (EDI) that will modify the method of distributing selected categories (e.g., operating reactor license amendments) of operating reactor licensing correspondence. Specifically, this initiative involves replacing distribution of paper copies with electronic distribution to the plant mailing list for documents generated by NRR's Division of Operating Reactor Licensing. This initiative does not affect the availability of official agency records in NRC's Agencywide Documents Access and Management System (ADAMS), which are publicly available on the NRC's Web page http://www.nrc.gov.

When this initiative is implemented, addressees will continue to receive the original correspondence, while those on the plant mailing list will receive electronic mail (e-mail). The distribution of safeguards information, proprietary or security-related information, or other information that is withheld from public disclosure will not be affected by this initiative. The NRC staff will protect the e-mail address from disclosure to others for privacy concerns.

In order to evaluate the feasibility of electronic distribution, the staff engaged in a pilot program with Exelon Generation Company, LLC (West). The pilot program began July 1, 2007, and ended September 30, 2007. A Federal Register Notice announcing the pilot program was issued on June 28, 2007 (72 FR 35520).

During the pilot program, the method used for distribution was e-mail. The e-mail contained an electronic link to ADAMS providing direct access to the correspondence. In addition, addressees received an Adobe Acrobat™ (pdf) version of the correspondence. Several lessons were learned from the pilot program. For example, the use of e-mails with a direct link into ADAMS provides an effective communication of correspondence. However, it generally takes 5 business days for a document to become publicly available in ADAMS. Unless action is taken to make the document publicly available sooner or action taken to delay sending the e-mail until the document becomes publicly available, the direct link resulted in the document not being available when the e-mail was received. As another example, some licensees and organizations that have multiple recipients on the plant mailing list have determined that it is beneficial to provide one email address for the plant mailing list. This allows these entities to perform additional distribution of the documents through automatic forwarding features of their e-mail systems. Furthermore, this allows easy and rapid updating of changes to these additional distribution addresses without incurring the additional cost of developing and approving communications to the NRC to make changes to the plant mailing list.

To obtain information to enhance the EDI, steps were taken to engage stakeholders. In the initial Federal Register notice (72 FR 35520) announcing the pilot program and in our letter dated October 11, 2007, (ADAMS Accession No. ML072820307) the NRC staff requested comments on the EDI. The NRC staff also sent an e-mail on October 24, 2007 (ADAMS Accession No. ML080160089) to all who participated in the pilot program to get their feedback. The comments (ADAMS Accession No. ML080170254) were overwhelmingly supportive of electronic distribution, generally because of the reduced need for copies and reduced handling costs. A few responders were concerned with e-mail box overloads and size limits. Such concerns can be eventually eliminated as individuals and organizations upgrade their electronic mail systems and will be addressed on a case-by-case basis.

Because the pilot program demonstrated feasibility and the feedback received was overwhelmingly favorable, the NRC is taking additional steps to pursue implementation of electronic distribution of correspondence. Recognizing the potential to provide a more effective and efficient method of distributing correspondence, the NRC intends to implement this initiative in 2008.

If you have specific comments regarding this initiative, please contact Mr. Russell Gibbs at 301-415-7198, or rag1@nrc.gov. Comments received within 30 days of this notice will be considered for implementation in the EDI.

Dated at Rockville, Maryland, this 1st day of February 2008.
For The Nuclear Regulatory Commission.
Russell Gibbs,
Chief, Plant Licensing Branch III-2, Division of Operating Reactor Licensing, Office of Nuclear Reactor Regulation.

[FR Doc. E8-2243 Filed 2-6-08; 8:45 am]

BILLING CODE 7590-01-P